DEPARTMENT OF DEFENSE

Office of the Secretary

Advisory Council on Dependents' Education; Open Meeting Notice

AGENCY: Department of Defense Education Activity (DoDEA), DoD.

ACTION: Open meeting notice.

SUMMARY: Under the provisions of the Federal Advisory Committee Act of 1972 (5 U.S.C., Appendix, as amended), the Government in the Sunshine Act of 1976 (5 U.S.C. 552b, as amended), and 41 CFR 102-3.150, the Department of Defense announces that the following Federal advisory committee meeting of the Advisory Council on Dependents' Education will take place.

DATES: Friday, April 20, 2012, Vicenza, Italy, from 12 p.m. to 4 p.m., Central European Summer Time (CEST); Arlington, Virginia (via Video Teleconference), from 6 a.m. to 10 a.m., Eastern Daylight Time (EDT).

ADDRESSES: Caserma Ederle, Vicenza, Italy 36100; 4040 North Fairfax Drive, Arlington, VA 22203.

FOR FURTHER INFORMATION CONTACT: Mr. Joel K. Hansen at (703) 588-3166 or Joel.Hansen@hq.dodea.edu.

SUPPLEMENTARY INFORMATION: Purpose of the Meeting: Recommend to the Director, DoDEA, general policies for the operation of the Department of Defense Dependents Schools (DoDDS); to provide the Director with information about effective educational programs and practices that should be considered by DoDDS; and to perform other tasks as may be required by the Secretary of Defense.

Agenda: The meeting agenda will reflect current DoDDS schools operational status, educational practices, and other educational matters that come before the Council. Public's Accessibility to the Meeting: Pursuant to 5 U.S.C. 552b and 41 CFR 102-3.140 through 102-3.165 and the availability of space, this meeting is open to the public. Seating is on a first-come basis.

Committee's Point of Contact: Mr. Joel K. Hansen at (703) 588-3166, 4040 North Fairfax Drive, Arlington, VA 22203 or Joel.Hansen@hq.dodea.edu.

Special Accommodations: Individuals requiring special accommodations to access the public meeting should contact Mr. Hansen at least five (5) business days prior to the meeting so that appropriate arrangements can be made.

Pursuant to 41 CFR 102-3.105(j) and 102-3.140 and section 10(a)(3) of the Federal Advisory Committee Act of 1972, the public or interested organizations may submit written statements to the Advisory Council on Dependents' Education about its mission and functions. Written statements may be submitted at any time or in response to the stated agendas of the planned meeting of the Advisory Council on Dependents' Education.

All written statements shall be submitted to the Acting Designated Federal Officer (DFO) for the Advisory Council on Dependents' Education, Mr. Joel K. Hansen, 4040 North Fairfax Drive, Arlington, VA 22203; Joel.Hansen@hq.dodea.edu.

Statements being submitted in response to the agendas mentioned in this notice must be received by the Acting DFO at the address listed in FOR FURTHER INFORMATION CONTACT at least fourteen calendar days prior to the meeting, which is the subject of this notice. Written statements received after this date may not be provided to or considered by the Advisory Council on Dependents' Education until its next meeting.

The Acting DFO will review all timely submissions with the Advisory Council on Dependents' Education Chairpersons and ensure they are provided to all members of the Advisory Council on Dependents' Education before the meeting that is the subject of this notice.

Oral Statements by the Public to the Membership: Pursuant to 41 CFR § 102-3.140(d), time will be allotted for public comments to the Advisory Council on Dependents' Education. Individual comments will be limited to a maximum of five minutes duration. The total time allotted for public comments will not exceed thirty minutes.

Dated: February 23, 2012.
Aaron Siegel,
Alternate OSD Federal Register Liaison Officer, Department of Defense.

[FR Doc. 2012-4612 Filed 2-27-12; 8:45 am]

BILLING CODE 5001-06-P